DEPARTMENT OF HOMELAND SECURITY

Bureau of Customs and Border Protection

Notice of Cancellation of Customs Broker Permit

AGENCY: Bureau of Customs and Border Protection, Department of Homeland Security.

ACTION: General notice.

SUMMARY: Pursuant to section 641 of the Tariff Act of 1930, as amended, (19 U.S.C. 1641) and the Customs Regulations (19 CFR 111.51), the following Customs broker permits are cancelled without prejudice.

Name | Permit No. | Issuing port
Menlo Worldwide Trade Services, Inc. | 88-04 | Buffalo.
Phil Fitter | 27-04-WX3 | Los Angeles.
Leslie P. Skelton dba Trans-Union Container Line | 1055 | Los Angeles.
Jay J. Rudman dba International Drawback Services | 53-02-AKE | Houston.
Pete Pang dba Starlink Customs Broker Service | 200210 | Los Angeles.
Tokyu World Transport (USA), Inc. | 00-17-000 | Atlanta.
Cargo U.K., Inc. | 99-00345 | Washington, DC.
Menlo Worldwide Trade Services, Inc. | 99-00264 | Washington, DC.

Dated: May 25, 2005.
Jayson P. Ahern,
Assistant Commissioner, Office of Field Operations.

[FR Doc. 05-10919 Filed 6-1-05; 8:45 am]

BILLING CODE 4820-02-P